DEPARTMENT OF HEALTH AND HUMAN SERVICES

Centers for Medicare and Medicaid Services

Notification of Single Source Cooperative Agreement Awards

AGENCY: Centers for Medicare and Medicaid Services (CMS), HHS.

ACTION: Notice.

SUMMARY: The Center for Medicare and Medicaid Innovation (CMMI)/Seamless Care Models Group will issue a single-source, cooperative agreement award to three (3) grantees to test a data aggregation model that combines data from insurance companies and Medicare in support of an innovative payment and service delivery initiative.

FOR FURTHER INFORMATION CONTACT: Janel Jin, U.S. Department of Health and Human Services, Centers for Medicare & Medicaid Services, 7500 Security Blvd., Baltimore, MD 21244, Phone: (410) 786-1438.

SUPPLEMENTARY INFORMATION: Intended Recipients: Rise Health, The Health Collaborative, and My Health.

Purpose of Award: The Centers for Medicare & Medicaid Services (CMS) is authorized to test innovative payment and service delivery models to reduce program expenditures under Medicare, Medicaid, and the Children's Health Insurance Program (CHIP) while preserving or enhancing the quality of care furnished to individuals under such programs. In October 2012, CMS launched the Comprehensive Primary Care (CPC) initiative as a multi-payer demonstration to test a model that fosters collaboration between public and private health insurance companies (“payers”) to strengthen primary care. The program includes 479 participating primary care practices and 38 participating payers across 7 regional areas within the United States. The CMS Innovation Center executed a Memorandum of Understanding (MOU) with each participating payer within the 7 regional areas covered by the program. One of the stated goals in the MOU is improving the flow of cost and utilization data to CPC primary care practices. The test model will aggregate multi-payer data for each primary care practice rather than practices receiving the data individually from each payer.

This single-source cooperative agreement award will allow the inclusion of Medicare data into the CPC multi-payer data model. The awardees will combine Medicare Fee-for-Service (FFS) data with utilization data from participating payers resulting in the creation of uniform and actionable reports to support physicians care coordination and quality improvement efforts.

Amount of the Award: There will be three (3) single-source, cooperative agreements awarded in the initial amount of $200,000-$450,000 per award for the first budget period. An award for a non-competing continuation at $200,000-$450,000 may be awarded for a period of 12 months.

Justification for Single Source Award: Commercial payers within the 7 regions have agreed to work together to improve data-sharing to the CPC practices. Each of the awardees currently maintain contracts with all of the CPC payers for data-sharing and have worked with the payers and practices to develop business requirements for the CPC multi-payer claims database system. If CMS were to award another source, the vendor would not be aggregating Medicare claims data with claims data from the regional payers, as each of the payers have selected the three entities of this award to perform this function. Doing so would undermine the CPC practices' ability to improve care and lower costs through care coordination and quality improvement and is counter to CMS's MOU with the payers. In conclusion, the only entities capable of providing the data aggregation services described are the three entities identified for the single-source awards.

Project Period: The anticipated period of performance for each cooperative agreement is 12 months from date of award with one continuation period of up to 12 months.

Provisions of the Notice: Title: Testing a Model of Data Aggregation under the Comprehensive Primary Care (CPC) Initiative.

CFDA Number: 93.646.

Estimated Award Date: September 12, 2015.

CMS has solicited proposal from Rise Health, The Health Collaborative, and My Health to include Medicare data into the multi-payer data model of the CPC initiative.

CMS requested the following to be submitted with each application:

1. Cover Letter

2. Project Abstract Summary

3. Project Narrative to address how the applicant will implement the cooperative agreement program in support of the goals of the Comprehensive Primary Care Initiative.

4. Budget Narrative

5. SF-424: Official Application for Federal Assistance

6. SF-424A: Budget Information Non-Construction

7. SF-424B: Assurances-Non-Construction Programs

8. SF-LLL: Disclosure of Lobbying Activities

9. Project Site Location Form(s) [as applicable]

Applications will be reviewed using the following evaluation criteria:

1. Proposed Approach—describe the development and implementation strategy for collecting and aggregating Medicare data with payer data from across the specified regions, including an anticipated timeline and activities associated with building the infrastructure needed to implement the project.

2. Organizational Capacity and Management Plan—demonstrates sufficient infrastructure and capacity to plan and implement the cooperative agreement activities and associated funding.

3. Evaluation and Reporting—overview of plans for quarterly reporting to CMS on the progress of the data aggregation activities funded under this cooperative agreement.

4. Budget and Budget Narrative—provide a detailed cost breakdown with explanations and justifications for the proposed cooperative agreement activities.

Authority: The CMS award is authorized under section 1115A of the Social Security Act, as added by Section 3021 of the Patient Protection and Affordable Care Act (P.L. 111-148) which permits the obligation of funding for CMS to design, implement, and evaluate innovative payment and service delivery models.

Dated: September 1, 2015.
Daniel F. Kane,
Director, Office of Acquisition and Grants Management, Centers for Medicare & Medicaid Services.

[FR Doc. 2015-22687 Filed 9-8-15; 8:45 am]

BILLING CODE 4120-01-P